DEPARTMENT OF THE INTERIOR

Bureau of Land Management

[LLIDT000000.L11200000.DD0000.241A.00]

Call for Nominations for the Twin Falls District Resource Advisory Council

AGENCY: Bureau of Land Management, Interior.

ACTION: Call for Nominations, Twin Falls District Resource Advisory Council

SUMMARY: This notice requests public nominations to fill one position on the Twin Falls District Resource Advisory Council (RAC) in category three (representatives of State, county, or local elected office; employees of a State agency responsible for management of natural resources; representatives of Tribes within or adjacent to the area for which the council is organized; representatives of academia who are employed in natural sciences; or the public-at-large).

DATES: All nominations must be received no later than September 12, 2012.

ADDRESSES: Nominations should be sent to Heather Tiel-Nelson, Public Affairs Specialist, Twin Falls District Office, Bureau of Land Management, 2536 Kimberly Road, Twin Falls, ID 83301

FOR FURTHER INFORMATION CONTACT: Heather Tiel-Nelson, 208-736-2352; hnelson@blm.gov.

Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The Federal Land Policy and Management Act (FLPMA) directs the Secretary of the Interior to involve the public in planning and issues related to management of lands administered by the Bureau of Land Management (BLM). Section 309 of FLPMA directs the Secretary to establish 10- to 15-member citizen-based advisory councils that conform to the requirements of the Federal Advisory Committee Act (FACA). RAC membership must be balanced and representative of the various interests concerned with the land use planning and/or management of the public lands.

The BLM Twin Falls District RAC is calling for nominations to fill a vacancy in category three (description addressed in the SUMMARY above, (43 CFR 1784.6-1(c)(3)). Upon appointment, the individual selected will fill the position until November 18, 2013. Nominees must be residents of Idaho. The BLM will evaluate nominees based on their education, training, experience, and their knowledge of the geographical area. Nominees should demonstrate a commitment to collaborative resource decision-making.

The Obama Administration prohibits individuals who are currently Federally registered lobbyists from being appointed or re-appointed to FACA and non-FACA boards, committees, or councils.

The following must accompany all nominations:

—Letters of reference from represented interests or organizations;

—A completed background information nomination form; and,

—Any other information that addresses the nominee's qualifications.

Simultaneous with this notice, the Twin Falls District Office will issue a news release providing information for submitting nominations.

Dated: June 29, 2012.
Jenifer Arnold,
Acting District Manager.

[FR Doc. 2012-19794 Filed 8-10-12; 8:45 am]

BILLING CODE 4310-GG-P